DEPARTMENT OF AGRICULTURE

Forest Service

DEPARTMENT OF THE INTERIOR

Fish and Wildlife Service

Southeast Alaska Federal Subsistence Regional Advisory Council Meeting

AGENCY: Forest Service, USDA; Fish and Wildlife Service, Interior.

ACTION: Notice of meeting.

DATES: December 1, 2005.

Time And Location: 9 a.m., Alaska Standard Time, by teleconference. For how to participate, please see SUPPLEMENTARY INFORMATION below.

SUMMARY: This notice informs the public that the Southeast Alaska Federal Subsistence Regional Advisory Council will hold a public meeting on December 1, 2005. The public is invited to participate and to provide oral testimony.

SUPPLEMENTARY INFORMATION: The Southeast Regional Advisory Council will meet by teleconference on December 1, 2005, for the purpose of reviewing and providing recommendations on proposals submitted to the Alaska Board of Fisheries, conferring on subsistence wildlife proposals, and discussing other matters affecting subsistence users in Southeast Alaska. This meeting is open to the public to provide testimony. To participate, call toll free, 1-800-369-1643. The Teleconference Leader is Mr. Bob Schroeder and the Passcode is 21119.

FOR FURTHER INFORMATION CONTACT: Chair, Federal Subsistence Board, c/o Office of Subsistence Management, U.S. Fish and Wildlife Service, 3601 C Street, Suite 1030, Anchorage, Alaska 99503; telephone (907) 786-3888. For questions related to subsistence management issues on National Forest Service lands, contact Steve Kessler, Subsistence Program Leader, 3601 C Street, Suite 1030, Anchorage, Alaska 99503; telephone (907) 786-3592.

Dated: October 21, 2005.
Thomas H. Boyd,
Acting Chair, Federal Subsistence Board.

Dated: October 20, 2005.
Steve Kessler,
Subsistence Program Leader, USDA-Forest Service.

[FR Doc. 05-22313 Filed 11-8-05; 8:45 am]

BILLING CODE 3410-11-P 4310-55-P 4310-55-P